DEPARTMENT OF THE INTERIOR

Bureau of Indian Affairs

Notice of Availability of the Draft Environmental Impact Statement for the Cowlitz Indian Tribe's Proposed 151.87 Acre Fee-To Trust Transfer, Reservation Proclamation and Casino-Resort Project, Clark County, WA; Correction

AGENCY: Bureau of Indian Affairs, Interior.

ACTION: Notice; correction.

SUMMARY: This notice advises the public of three corrections to the Notice of Availability of the Draft Environmental Impact Statement (DEIS) for the Cowlitz Indian Tribe's Proposed Fee-to Trust Transfer, Reservation Proclamation and Casino-Resort Project, Clark County, Washington, published in the Federal Register on April 12, 2006, 71 FR 18767 (FR Doc. E6-5383). The U.S. Environmental Protection Agency (EPA) was erroneously included among the cooperating agencies. EPA is not a cooperating agency for this DEIS. This notice also corrects the name, address and telephone number of the contact person for the DEIS.

FOR FURTHER INFORMATION CONTACT: Gerald Henrickson, (503) 231-6927.

Correction

On page 18767, in the third column under the SUMMARY heading, in the first sentence, remove the words “U.S. Environmental Protection Agency (EPA).”

On page 18768, in the first column under the ADDRESSES heading, correct the last paragraph to read: To obtain a copy of the DEIS, please write to Gerald Henrickson, Northwest Regional Office, Bureau of Indian Affairs, 911 N.E. 11th Avenue, Portland, Oregon 97232, or call him at the number provided below.

On page 18768, in the first column under the FOR FURTHER INFORMATION CONTACT heading, correct the name and telephone number to read: Gerald Henrickson, (503) 231-6927.

Dated: May 16, 2006.
Michael D. Olsen,
Acting Principal Deputy Assistant Secretary—Indian Affairs.

[FR Doc. E6-7773 Filed 5-19-06; 8:45 am]

BILLING CODE 4310-W7-P